DEPARTMENT OF THE INTERIOR

Notice of Intent To Prepare an Environmental Impact Statement and Hold an Informal Scoping Meeting on the Utah Lake Drainage Basin Water Delivery System of the Bonneville Unit, Central Utah Project

AGENCY: The Department of the Interior, Utah Reclamation Mitigation and Conservation Commission, and the Central Utah Water Conservancy District (District) are the joint lead agencies.

LOCATION: Wasatch Front Area, Utah (Salt Lake, Utah, and East Juab Counties).

ACTION: Notice of intent to prepare an Environmental Impact Statement (EIS) and hold an informal scoping meeting on the Utah Lake Drainage Basin Water Delivery System (Utah Lake System) of the Bonneville Unit, Central Utah Project, for the purpose of assessing the needs for current and future water uses within the Wasatch Front Area.

SUMMARY: Pursuant to: Section 102(2)(C) of the National Environmental Policy Act of 1969, as amended; Section 202 (a)(1) of Public Law 102-575, Central Utah Project Completion Act (CUPCA); and the October 14, 1998, Federal Register Notice (FR Doc. 98-27484), the joint lead agencies are initiating a planning and EIS process with public involvement on the Utah Lake System of the Bonneville Unit, Central Utah Project. The Utah Lake System will connect to the Diamond Fork System and could make water available to the Wasatch Front Area for irrigation, municipal and industrial, fish and wildlife, and other authorized uses. Water could be delivered directly to locations within the Utah Lake Drainage Basin by the Utah Lake System as well as by exchange from other facilities. As indicated in the 1999 Diamond Fork Final Supplement to the Final EIS, the project water supply will consist of a transbasin diversion of 101,900 acre-feet, the United States' acquisition of the District's water rights in Utah Lake, and the United States' acquisition of other water rights as authorized in CUPCA. The water supply will be comprised of several sources including Strawberry Reservoir, Utah Lake, Jordanelle Reservoir, and the Provo River. A portion of the transbasin diversion has been previously committed to instream flows and exchange to Jordanelle Reservoir to meet contracts with water users from North Utah, Wasatch, and Salt Lake Counties. Therefore, the project's Utah Lake System water supply could vary from 30,000 to 70,000 acre-feet, depending on the place of use, availability, type and location of water conservation measures implemented, and the use of project return flows. Any other additional uses of Bonneville Unit water within the Wasatch Front Area and all remaining environmental issues and commitments associated with the Bonneville Unit will be addressed during this planning and EIS process. The Utah Lake System is the final component of the Bonneville Unit, Central Utah Project.

Scoping Process: The joint lead agencies will conduct scoping on the Utah Lake System in two phases. The initial phase will be informal scoping during which input will be sought to determine existing and future water needs, potential service areas, and needs for water distribution facilities. With data gathered during the informal scoping process, alternatives will be developed and presented at the second phase of scoping. The second phase, or formal scoping, will begin within 12 months and will give the public an opportunity to review and provide comments on alternatives developed for the Utah Lake System and potential impacts associated with each alternative. Additional scoping information and meetings related to the second phase will be announced at a future time. Information obtained through the formal scoping process will be used to develop the final set of alternatives for analysis in an EIS for the Utah Lake System.

Scoping Meeting: The joint lead agencies will hold an informal public scoping meeting to receive input from potential water purchasers/petitioners and the public on existing and future water needs and facilities to deliver water within the Wasatch Front Area. The scoping meeting will be conducted in an open house format during a 3-hour period in which representatives of the joint lead agencies will be available to receive input, provide information, and answer questions. To allow sufficient time for all potential purchasers/petitioners and the public, there will be a 30-minute time limit to meet with the joint lead representatives. The meeting will be held: Thursday, September 28, 2000, 5:00 p.m.-8:00 p.m., Student Center Ballroom, Utah Valley State College, 800 West 1200 South, Orem, Utah.

The time and location of the meeting will also be announced in local media.

Deadlines for Submitting First Phase Scoping Comments: Monday, October 31, 2000. All written comments should be submitted to : Mr. Harold Sersland, Central Utah Water Conservancy District, 355 West University Parkway, Orem, Utah 84058-7303.

FOR FURTHER INFORMATION: Additional information on matters related to this Federal Register notice can be obtained at the address and telephone number set forth below: Mr. Reed Murray, Department of the Interior, 302 East 1860 South, Provo, Utah 84606-6154, Telephone (801) 379-1237.

Dated: August 17, 2000.
Ronald Johnston,
Program Director, Department of the Interior.

[FR Doc. 00-21458 Filed 8-22-00; 8:45 am]

BILLING CODE 4310-RK-P